DEPARTMENT OF AGRICULTURE

Forest Service

John Day/Snake Resource Advisory Council, Hells Canyon Subgroup

AGENCY: Forest Service, USDA.

ACTION: Notice of meeting.

SUMMARY: The Hells Canyon Subgroup of the John Day/Snake Resource Advisory Council will meet on September 8-10, 2000 at the Forest Service Administrative Site, Pittsburgh Landing. The meeting will begin at 9 a.m. and continue until 5 p.m. the first day and will begin at 8 a.m. on the second and third days and adjourn by 2 p.m. the final day. Agenda items to be covered include: (1) Hands on education of Heritage site, (2) Clean-up and/or site restoration of Recreation and/or Heritage sites, (3) Update on the Comprehensive Management Plan EIS, and (4) Open public forum. All meetings are open to the public. Public comments will be received September 9, 2000 at 8 a.m. at the Pittsburgh Administrative Site.

FOR FURTHER INFORMATION CONTACT: Direct questions regarding this meeting to Kendall Clark, Area Ranger, USDA, Hells Canyon National Recreation Area, 88401 Highway 82, Enterprise, OR 97828, 541-426-5501.

Dated: August 4, 2000.
John C. Schuyler,
Deputy Forest Supervisor.

[FR Doc. 00-20238 Filed 8-9-00; 8:45 am]

BILLING CODE 3410-11-M